SECURITIES AND EXCHANGE COMMISSION

[Release No. 34-68189; File No. SR-EDGX-2012-33]

Self-Regulatory Organizations; EDGX Exchange, Inc.; Notice of Withdrawal of Proposed Rule Change To Amend EDGX Rule 11.5(c) To Add the Edge Market Close℠ Order

November 8, 2012.

I. Introduction

On July 27, 2012, the EDGX Exchange, Inc. (“Exchange” or “EDGX”) filed with the Securities and Exchange Commission (“Commission”), pursuant to Section 19(b)(1) of the Securities Exchange Act of 1934 (“Act”) ¹ and Rule 19b-4 thereunder,² a proposed rule change that would have introduced the Edge Market Close℠ (“EMC”) Order as a new order type. The proposed rule change was published for comment in the Federal Register on August 10, 2012.³ The Commission received two comments on the proposed rule change.⁴ On September 19, 2012, the Exchange extended the time period for the Commission to approve the proposed rule change, disapprove the proposed rule change, or institute proceedings to determine whether the proposed rule change should be approved or disapproved, to November 8, 2012.

¹ 15 U.S.C. 78s(b)(1).

² 17 CFR 240.19b-4.

³ See Securities Exchange Act Release No. 67598 (August 6, 2012), 77 FR 47899 (“Notice”).

⁴ See letters to Elizabeth M. Murphy, Secretary, Commission, from: Alex Kogan, Vice President and Deputy General Counsel, The NASDAQ OMX Group, Inc., dated September 5, 2012 (“NASDAQ Letter”); and Janet McGinness, Executive Vice President and Corporate Secretary, General Counsel, NYSE Euronext, dated September 11, 2012 (“NYSE Letter”). The Exchange submitted a letter responding to these comments. See letter to Elizabeth M. Murphy, Secretary, Commission, from William O'Brien, Chief Executive Officer, DirectEdge, dated November 8, 2012.

On November 6, 2012, the Exchange withdrew the proposed rule change (SR-EDGX-2012-33).

For the Commission, by the Division of Trading and Markets, pursuant to delegated authority.⁵
⁵ 17 CFR 200.30-3(a)(12).
Kevin M. O'Neill,
Deputy Secretary.

[FR Doc. 2012-27763 Filed 11-14-12; 8:45 am]

BILLING CODE 8011-01-P